DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 5, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information exchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

Community | Community Map Repository Address
La Paz County, Arizona, and Incorporated Areas | Docket No.: FEMA-B-1276
Unincorporated Areas of La Paz County | La Paz County Planning and Zoning Department, 1112 Joshua Avenue, Suite 202, Parker, AZ 85344.
Bryan County, Georgia, and Incorporated Areas | Docket No.: FEMA-B-1296
City of Pembrooke | City Hall, 160 North Main Street, Pembrooke, GA 31321.
Unincorporated Areas of Bryan County | Bryan County Planning and Zoning Department, 51 North Courthouse Street, Pembroke, GA 31321.
Liberty County, Georgia, and Incorporated Areas | Docket No.: FEMA-B-1296
City of Flemington | City Hall, 156 Old Sunbury Road, Flemington, GA 31309.
City of Gum Branch | City Hall, 5334 Highway 196 West, Gum Branch, GA 31310.
City of Hinesville | Inspections Department, 115 East M.L. King, Jr. Drive, Hinesville, GA 31313.
City of Walthourville | City Hall, 222 Busbee Road, Walthourville, GA 31333.
Town of Allenhurst | Town Hall, 4063 West Oglelthorpe Highway, Allenhurst, GA 31301.
Unincorporated Areas of Liberty County | Liberty County Consolidated Planning Commission, 100 Main Street, Suite 1220, Hinesville, GA 31313.
Long County, Georgia, and Incorporated Areas | Docket No.: FEMA-B-1296
City of Ludowici | City Hall, 469 North Main Street, Ludowici, GA 31316.
Unincorporated Areas of Long County | Long County Code Enforcement Office, 459 South McDonald Street, Ludowici, GA 31316.
Pulaski County, Indiana, and Incorporated Areas | Docket No.: FEMA-B-1284
Town of Medaryville | Town Hall, 409 East Main Street, Medaryville, IN 47957.
Town of Monterey | Town Hall, 7033 North Walnut Street, Monterey, IN 46960.
Town of Winamac | Municipal Offices, 120 West Main Street, Winamac, IN 46996.
Unincorporated Areas of Pulaski County | Pulaski County Building Department, 125 South Riverside Drive, Suite 150, Winamac, IN 46996.
Clay County, Kansas, and Incorporated Areas | Docket No.: FEMA-B-1310
City of Clay Center | City Hall, 427 Court Street, Clay Center, KS 67432.
City of Green | City Hall, 106 Dixon Avenue, Green, KS 67447.
City of Longford | City Hall, 102 Weda Street, Longford, KS 67458.
City of Morganville | City Office, 101 North Main Street, Morganville, KS 67468.
City of Oak Hill | City Hall, 210 Spears Street, Oak Hill, KS 67432.
City of Wakefield | City Office, 609 Grove Street, Wakefield, KS 67487.
Unincorporated Areas of Clay County | Clay County Courthouse, 712 5th Street, Clay Center, KS 67432.
Baltimore County, Maryland, and Incorporated Areas | Docket No.: FEMA-B-1299
Unincorporated Areas of Baltimore County | Baltimore County Office Building, Department of Public Works, 111 West Chesapeake Avenue, Suite 307, Towson, MD 21204.
De Soto County, Mississippi, and Incorporated Areas | Docket No.: FEMA-B-1296
City of Hernando | City Hall, 475 West Commerce Street, Hernando, MS 38632.
City of Horn Lake | City Hall, Planning Department, 2285 Goodman Road, Horn Lake, MS 38637.
City of Olive Branch | Planning and Building Department, 9150 Pigeon Roost Road, Olive Branch, MS 38654.
City of Southhaven | Engineering Department, 8710 Northwest Drive, Southaven, MS 38671.
Unincorporated Areas of De Soto County | De Soto County Geographic Information Systems, 365 Losher Street, Suite 200, Hernando, MS 38632.
Pleasants County, West Virginia, and Incorporated Areas | Docket No.: FEMA-B-1310
City of St. Mary's | Court House, 418 Second Street, St. Mary's, WV 26170.
City of Belmont | Court House, 218 Main Street, Belmont, WV 26134.
Unincorporated Areas of Pleasants County | Pleasants County Court House, 301 Court Lane, Suite 101, St. Mary's, WV 26170.

(Catalog of Federal Domestic Assistance No. 97.022, “Flood Insurance.”)

Dated: January 31, 2014.
Roy E. Wright,
Deputy Associate Administrator for Mitigation, Department of Homeland Security, Federal Emergency Management Agency.

[FR Doc. 2014-06285 Filed 3-21-14; 8:45 am]

BILLING CODE 9110-12-P